DEPARTMENT OF DEFENSE

GENERAL SERVICES ADMINISTRATION

NATIONAL AERONAUTICS AND SPACE ADMINISTRATION

48 CFR Chapter 1

Federal Acquisition Circular 2001-27; Introduction

AGENCIES: Department of Defense (DoD), General Services Administration (GSA), and National Aeronautics and Space Administration (NASA).

ACTION: Summary presentation of interim rule.

SUMMARY: This document summarizes the Federal Acquisition Regulation (FAR) rule agreed to by the Civilian Agency Acquisition Council and the Defense Acquisition Regulations Council in this Federal Acquisition Circular (FAC) 2001-27. A companion document, the Small Entity Compliance Guide (SECG), follows this FAC. The FAC, including the SECG, is available via the Internet at http://www.acqnet.gov/far.

DATES: For effective date and comment date, see separate document which follows.

FOR FURTHER INFORMATION CONTACT: The FAR Secretariat, at (202) 501-4755, for information pertaining to status or publication schedules. For clarification of content, contact the analyst whose name appears in the table below in relation to the FAR case. Please cite FAC 2001-27, FAR case 2004-027. Interested parties may also visit our Web site at http://www.acqnet.gov/far.

Item | Subject | FAR case | Analyst
I | Free Trade Agreements—Australia and Morocco | 2004-027 | Davis.

SUPPLEMENTARY INFORMATION: A summary of the FAR rule follows. For the actual revisions and/or amendments to this FAR case, refer to the specific item number and subject set forth in the document following this item summary.

FAC 2001-27 amends the FAR as specified below:

Free Trade Agreements—Australia and Morocco (FAR case 2004-027)

This interim rule allows contracting officers to purchase the products of Australia and Morocco without application of the Buy American Act if the acquisition is subject to the Free Trade Agreements. The U.S. Trade Representative negotiated Free Trade Agreements with Australia and Morocco, which go into effect January 1, 2005, according to Public Laws 108-286 and 108-302. These Agreements join the North American Free Trade Agreement (NAFTA) and the Chile and Singapore Free Trade Agreements which are already in the FAR. The threshold for applicability of the Australian Free Trade Agreement is $58,550 (the same as other Free Trade Agreements to date), but the threshold for applicability of the Morocco Free Trade Agreement is $175,000. Because of the short statutory time frame, this is an interim rule. Also in this rule are changes requested by the U.S. Trade Representative, in the list of Least Developed Countries, and changes in terminology on how the FAR uses the terms “designated country” and “Trade Agreements Act.” Some technical changes are also included.

Dated: December 22, 2004.
Laura Auletta,
Director, Contract Policy Division.

Federal Acquisition Circular

Federal Acquisition Circular (FAC) 2001-27 is issued under the authority of the Secretary of Defense, the Administrator of General Services, and the Administrator for the National Aeronautics and Space Administration.

Unless otherwise specified, all Federal Acquisition Regulation (FAR) and other directive material contained in FAC 2001-27 is effective January 1, 2005.

Dated: December 21, 2004.
Lt. Col. Vincent Feck,
Deputy Director (Operations), Defense Procurement and Acquisition Policy.

Dated: December 22, 2004.
David A. Drabkin,
Senior Procurement Executive, General Services Administration.

Dated: December 21, 2004.
Scott Thompson,
Acting Deputy Chief Acquisition Officer, National Aeronautics and Space Administration.

[FR Doc. 04-28399 Filed 12-27-04; 8:45 am]

BILLING CODE 6820-EP-P